DEPARTMENT OF COMMERCE

National Telecommunications and Information Administration

Proposed Information Collection; Comment Request; Computer and Internet Use Supplement to the Census Bureau's Current Population Survey

AGENCY: National Telecommunications and Information Administration (NTIA).

ACTION: Notice.

SUMMARY: The Department of Commerce, as part of its continuing effort to reduce paperwork and respondent burden, invites the general public and other Federal agencies to comment on proposed and/or continuing information collections, as required by the Paperwork Reduction Act of 1995.

DATES: Submit comments on or before March 10, 2017.

ADDRESSES: Direct all written comments to Jennifer Jessup, Departmental Paperwork Clearance Officer, (202) 482-0336, Department of Commerce, Room 6612, 1401 Constitution Avenue NW., Washington, DC 20230 (or via email at JJessup@doc.gov).

FOR FURTHER INFORMATION CONTACT: NTIA has made a copy of the proposed information collection instrument available at https://ntia.doc.gov/files/ntia/publications/november_2017_cps_supplement_draft_for_public_comment.pdf. Additionally, requests for further information or copies of the proposed information collection instrument and instructions should be directed to Rafi Goldberg, Telecommunications Policy Analyst, Office of Policy Analysis and Development, NTIA, at (202) 482-4375 or RGoldberg@ntia.doc.gov.

SUPPLEMENTARY INFORMATION:

I. Abstract

NTIA proposes to add 58 questions to the U.S. Census Bureau's November 2017 Current Population Survey (CPS) to gather reliable data on broadband (also known as high-speed Internet) use by U.S. households through the Computer and Internet Use Supplement (“the Supplement”). The planned Supplement will be the fourteenth since NTIA began sponsoring such surveys in November 1994. Since that time, NTIA has continually revised the Supplement to reflect developments in Internet technology, applications, and connected devices.

As the digital economy's accelerating growth reinforces the Internet's importance to the nation's economic prosperity, policymakers, businesses, non-profits, communities, and other stakeholders increasingly rely on data about whether and how Americans use broadband in their routine activities. Recognizing that digitally-connected Americans provide the modern workforce, creative innovation, and growing customer base to help sustain our nation's global competitiveness, the Supplement will yield data that can inform investment decisions and resource allocations to advance full participation in the digital economy.

NTIA is working with Congress, the Federal Communications Commission (FCC), other federal agencies, state and local governments, as well as with industry and non-profits to develop and promote policies that foster broadband deployment and adoption. These policies help to ensure that the nation's businesses and consumers can obtain competitively priced high-speed Internet access and that everyone is able to gain the skills necessary to use the technology. Collecting current, systematic, and comprehensive information on broadband use and non-use by U.S. households is critical to enabling policymakers to gauge progress made to date, and also to identify specific areas and demographic groups in which broadband adoption is a concern with a specificity that permits carefully targeted and cost-effective responses.

The U.S. Census Bureau is widely regarded as a premier data collector based on centuries of experience and rigorous scientific methods. Collection of NTIA's requested broadband usage data will occur in conjunction with the U.S. Census Bureau's scheduled November 2017 CPS, thereby significantly reducing the potential burdens on the U.S. Census Bureau and on surveyed households.

The U.S. government has an increasingly pressing need for comprehensive broadband data. The U.S. Government Accountability Office (GAO), NTIA, and the FCC have issued reports noting the importance of useful broadband adoption data for policymakers. Moreover, Congress passed legislation—the Broadband Data Improvement Act in 2008 and the American Recovery and Reinvestment Act in 2009—wholly or in part to address this deficiency. Modifying the November 2017 CPS to include NTIA's requested broadband questions will enable the Commerce Department and NTIA to respond to congressional concerns and directives.

II. Method of Collection

The Supplement will be administered through personal visits and live telephone interviews using computer-assisted telephone interviewing and computer-assisted personal interviewing.

III. Data

OMB Control Number: 0660-0021.

Form Number(s): None.

Type of Review: Regular submission (Revision of a currently approved collection).

Affected Public: Individuals and households.

Estimated Number of Respondents: 54,000 households.

Estimated Time per Response: 10 minutes.

Estimated Total Annual Burden Hours: 9,000.

Estimated Total Annual Cost to Public: $0.

IV. Requests for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden on respondents of providing the requested information, including through the use of automated collection techniques or other forms of information technology.

Comments submitted in response to this notice will be summarized and/or included in the request for OMB approval of this information collection; they also will be a matter of public record.

Sheleen Dumas,
PRA Departmental Lead, Office of the Chief Information Officer.

[FR Doc. 2017-00154 Filed 1-6-17; 8:45 am]

BILLING CODE 3510-60-P